NUCLEAR REGULATORY COMMISSION

[Docket No. 50-286]

Power Authority of the State of New York; Facility Operating License No. DPR-64 Receipt of Petition for Director's Decision Under 10 CFR 2.206

Notice is hereby given that by Petition dated March 14, 2000, Mr. David A. Lochbaum, on behalf of the Union of Concerned Scientists, the Nuclear Information & Resource Service, the PACE Law School Energy Project, and Public Citizen's Critical Mass Energy Project (Petitioners), has requested that the U.S. Nuclear Regulatory Commission (NRC) take action with regard to Indian Point Nuclear Generating Unit 2 (IP2), owned and operated by the Consolidated Edison Company of New York (the licensee). The Petitioner requested that the NRC issue an order to the licensee preventing the restart of IP2, or modify the licensee for IP2 to limit it to zero power, until (1) all four steam generators are replaced, (2) the steam generator tube integrity concerns identified in Dr. Joram Hopenfeld's differing professional opinion (DPO) and in Generic Safety Issue GSI-163 are resolved, and (3) potassium iodide tablets are distributed to residents and businesses within the 10-mile emergency planning zone (EPZ) or stockpiled in the vicinity of IP2. (The DPO process provides for the review of concerns raised by individual NRC employees who disagree with a position adopted by the NRC staff.)

As the basis for the request that the NRC prevent the licensee from restarting IP2 until all four steam generators are replaced, the Petitioner states that IP2 is equipped with Westinghouse Model 44 steam generators and that all other operating power plants in the United States that were originally equipped with Westinghouse Model 44 steam generators have replaced them. The Petitioner also states that the IP2 steam generators have had an average of 10 percent of their tubes removed from service and that many other tubes have crack indications.

As the basis for the request that the NRC prevent the licensee from restarting IP2 until the DPO filed by Dr. Hopenfeld is resolved, the Petitioner states that the length of time that the staff has taken to resolve this issue has undermined the NRC's four stated objectives: (1) Maintain safety, (2) increase public confidence, (3) improve regulatory efficiency and effectiveness, and (4) reduce unnecessary regulatory burden. The Petitioner also cites Idaho National Engineering Laboratory findings that support Dr. Hopenfeld's opinion.

As the basis for the request that the NRC prevent the licensee from restarting IP2 until potassium iodide tablets have been distributed to people and businesses within the 10-mile EPZ, the Petitioner states that the incident at IP2 demonstrated the potential for a more serious accident. The Petitioner also states that distributing potassium iodide tablets could reduce the consequences from a postulated accident.

The request that the NRC prevent the licensee from restarting IP2 until all four steam generators are replaced is being treated pursuant to 10 CFR 2.206 of the Commission's Regulations. The request has been referred to the Director of the Office of Nuclear Reactor Regulation. As provided by Section 2.206, appropriate action will be taken on this Petition within a reasonable time.

The request that the NRC prevent the licensee from restarting IP2 until the DPO filed by Dr. Hopenfeld is resolved and until potassium iodide tablets are distributed to people and businesses within the 10-mile EPZ or stockpiled in the vicinity of IP2 is not being treated pursuant to 10 CFR 2.206 of the Commission's regulations and shall be handled by separate correspondence.

A copy of the Petition is available for inspection at the Commission's Public Document Room, the Gelman Building, 2120 L Street NW., Washington, DC, and accessible electronically through the ADAMS Public Electronic Reading Room link at the NRC Web site ­(http://www/nrc.gov).

Dated at Rockville, Maryland, this 5th day of April 2000.
For the Nuclear Regulatory Commission.
Roy P. Zimmerman,
Acting Director, Office of Nuclear Reactor Regulation.

[FR Doc. 00-8947 Filed 4-10-00; 8:45 am]

BILLING CODE 7590-01-M